DEPARTMENT OF TRANSPORTATION

Pipeline and Hazardous Materials Safety Administration

[Docket: PHMSA-98-4957]

Request for Public Comments and Office of Management and Budget (OMB) Approval of an Existing Information Collection (2137-0522)

AGENCY: Pipeline and Hazardous Materials Safety Administration (PHMSA), DOT.

ACTION: Notice and request for comments.

SUMMARY: In compliance with the Paperwork Reduction Act of 1995 (PRA), this notice announces that the Information Collection Request has been forwarded to OMB for an extension of the currently approved information collection. PHMSA published a Federal Register notice soliciting comments on this information collection and received none. The purpose of this notice is to allow the public an additional 30 days to submit comments.

DATES: Comments must be submitted on or before May 30, 2007.

ADDRESSES: Send comments directly to the Office of Management and Budget, Office of Information and Regulatory Affairs, Office of Management and Budget, Attn: Desk Office for the Department of Transportation, 725 17th Street, NW., Washington, DC 20503.

FOR FURTHER INFORMATION CONTACT: L.E. Herrick at (202) 366-5523, or by e-mail at le.herrick@dot.gov.

SUPPLEMENTARY INFORMATION: PHMSA requires operators of gas distribution, transmission, and gathering pipelines to complete and submit annual and incident reports. PHMSA also requires immediate telephone notification from operators to report potentially significant safety issues related to an incident. The follow-up written report for each incident is to be submitted by the operators within 30 days of the incident. The reporting requirements are found in 49 CFR part 191.

The operators are required to use PHMSA forms F 7100.1, F 7100.1-1, F 7100.2 and F 7100.2-2 for their report submissions to PHMSA. These reports enable PHMSA to identify and evaluate existing and potential pipeline safety problems as part of its efforts to minimize natural gas pipeline failures and to develop statistical and data/safety reports. A copy of the report forms is available in the docket.

On February 12, 2007, PHMSA published a notice with request for comments in the Federal Register (72 FR 6664). PHMSA received four comments. Pursuant to 44 U.S.C. 3506(c)(2)(A) of the PRA, PHMSA will include the comments in the request for OMB's clearance of this information collection. PHMSA is now forwarding the collection of information request to the OMB and providing an additional 30 days for comments. PHMSA is inviting comments on whether the proposed information collection is necessary for the proper performance of the functions of the Department. The comments may include (1) Whether the information will have practical utility; (2) the accuracy of the Department's estimate of the burden of the proposed information collection; (3) ways to enhance the quality, utility, and clarity of the information to be collected; and (4) ways to minimize the burden of the collection of information on respondents, including the use of automated collection techniques or other forms of information technology.

As used in this notice, the term “information collection” includes all work related to preparing and disseminating information in accordance with recordkeeping requirements.

Type of Information Collection Request: Renewal of Existing Collection.

Title of Information Collection: Incident and Annual Reports for Gas Pipeline Operators.

Respondents: 2100 gas pipeline operators.

Estimated Total Annual Burden on Respondents: 36,105 hours.

Issued in Washington, DC, on April 25, 2007.
Florence L. Hamn,
Director of Regulations, Office of Pipeline Safety.

[FR Doc. E7-8232 Filed 4-27-07; 8:45 am]

BILLING CODE 4910-60-P